DEPARTMENT OF AGRICULTURE

Forest Service

Notice of Resource Advisory Committee, Custer, SD, USDA Forest Service

ACTION: Notice of Meeting.

SUMMARY: Pursuant to authorities in the Federal Advisory Committee Act (Law 92-463) and Public Law 110-343, enacted on October 3, 2008, reauthorizing and amending the Secure Rural Schools and Community Self Determination Act of 2000 (Pub. L. 106-393), the Black Hills National Forest Custer County Resource Advisory Committee will meet on Tuesday, April 7, 2009 in Custer, South Dakota. The meeting is open to the public.

SUPPLEMENTARY INFORMATION: The meeting on April 7, 2009 will begin at 5:30 p.m. at the Black Hills National Forest Supervisor's Office at 25041 North Highway 16, Custer, South Dakota. Agenda topics will be Project review and selection and other general business.

FOR FURTHER INFORMATION CONTACT: Lynn Kolund, Hell Canyon District Ranger and Designated Fed Official, at 605-673-4853.

Lynn Kolund,
District Ranger.

[FR Doc. E9-7163 Filed 3-31-09; 8:45 am]

BILLING CODE